DEPARTMENT OF HOMELAND SECURITY

Coast Guard

33 CFR Part 117

[Docket No. USCG-2010-0167]

Drawbridge Operation Regulations; Acushnet River, New Bedford and Fairhaven, MA, Event—Road Race

AGENCY: Coast Guard, DHS.

ACTION: Notice of temporary deviation from regulations.

SUMMARY: The Commander, First Coast Guard District, has issued a temporary deviation from the regulation governing the operation of the Route 6 New Bedford Fairhaven Bridge across the Acushnet River, mile 0.0, between New Bedford and Fairhaven, Massachusetts. This temporary deviation is necessary to facilitate a public event, the Greater New Bedford Community Health Center 5K Road Race, by allowing the bridge to remain in the closed position for two hours during the running of the 5K Road Race.

DATES: This deviation is effective from 10 a.m. through 12 p.m. on May 30, 2010.

ADDRESSES: Documents mentioned in this preamble as being available in the docket are part of docket USCG-2010-0167 and are available online at http://www.regulations.gov, inserting USCG-2009-0001 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. John McDonald, Project Officer, First Coast Guard District, telephone (617) 223-8364, john.w.mcdonald@uscg.mil. If you have questions on viewing the docket, call Renee V. Wright, Program Manager, Docket Operations, telephone 202-366-9826.

SUPPLEMENTARY INFORMATION: The Route 6 New Bedford Fairhaven Bridge, across the Acushnet River at mile 0.0, between New Bedford and Fairhaven, Massachusetts, has a vertical clearance in the closed position of 6 feet at mean high water and 10 feet at mean low water. The Drawbridge Operation Regulations are listed at 33 CFR 117.585. The bridge opens on the hour from 6 a.m. through 10 a.m. and at a quarter past the hour between 11:15 a.m. and 6:15 p.m. The bridge opens on signal at all other times.

The owner of the bridge, Massachusetts Department of Transportation, requested this temporary deviation to facilitate a public event, the Greater New Bedford Community Health Center 5K Road Race.

Under this deviation, the Route 6 New Bedford Fairhaven Bridge may remain in the closed position between 10 a.m. and 12 p.m. on May 30, 2010. The 10 a.m. and 11:15 a.m. openings will be missed as a result of this temporary deviation. Vessels able to pass under the closed draw may do so at any time.

In accordance with 33 CFR 117.35(e), the bridge must return to its regular operating schedule immediately at the end of the designated time period. This deviation from the operating regulations is authorized under 33 CFR 117.35.

Dated: March 16, 2010.
Gary Kassof,
Bridge Program Manager, First Coast Guard District.

[FR Doc. 2010-7246 Filed 3-30-10; 8:45 am]

BILLING CODE 9110-04-P